DEPARTMENT OF JUSTICE

Drug Enforcement Administration

Manufacturer of Controlled Substances; Notice of Registration

By Notice dated June 6, 2003, and published in the Federal Register on July 8, 2003, (68 FR 40685), Applied Science Labs, Division of Alltech Associates Inc., 2701 Carolean Industrial Drive, PO Box 440, State College, Pennsylvania 16801, made application by renewal to the Drug Enforcement Administration to be registered as a bulk manufacturer of the basic classes of controlled substance listed below:

Drug | Schedule
Methcathinone (1237) | I
N-Ethylamphetamine (1475) | I
N, N-Dimethylamphetamine (1480) | I
4-Methylaminorex (cis isomer) (1590) | I
Lysergic acid diethylamide (7315) | I
Mescaline (7381) | I
3, 4-Methylenedioxyamphetamine (7400) | I
N-Hydroxy-3, 4-methylenedioxyamphetamine (7402) | I
3, 4-Methylenedioxy-N-ethylamphetamine (7404) | I
3, 4-Methylenedioxymethamphetamine (7405) | I
N-Ethyl-1-phenylcyclohexylamine (7455) | I
1-(1-Phenylcyclohexyl) pyrrolidine (7458) | I
1-[1- (2-Thienyl) cyclohexyl] piperidine (7470) | I
Dihydromorphine (9145) | I
Normorphine (9313) | I
1-Phenylcyclohexylamine (7460) | II
Phencyclidine (7471) | II
Phenylacetone (8501) | II
1-Piperidinocyclohexanecarbonitrile (8603) | II
Cocaine (9041) | II
Codeine (9050) | II
Dihydrocodeine (9120) | II
Benzoylecgonine (9180) | II
Morphine (9300) | II
Noroxymorphone (9668) | II

The firm plans to manufacture small quantities of the listed controlled substances for reference standards. No comments or objections have been received. DEA has considered the factors in title 21, United States Code, section 823(a) and determined that the registration of Applied Science Labs, Division of Alltech Associates Inc. to manufacture the listed controlled substances is consistent with the public interest at this time. DEA has investigated Applied Science Labs, Division of Alltech Associates Inc. to ensure that the company's registration is consistent with the public interest.

This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed is granted.

Dated: October 7, 2003.
Laura M. Nagel,
Deputy Assistant Administrator, Office of Diversion Control, Drug Enforcement Administration.

[FR Doc. 03-27245 Filed 10-28-03; 8:45 am]

BILLING CODE 4410-09-M